DEPARTMENT OF COMMERCE

National Oceanic and Atmospheric Administration

RIN 0648-XP24

Schedules for Atlantic Shark Identification Workshops and Protected Species Safe Handling, Release, and Identification Workshops

AGENCY: National Marine Fisheries Service (NMFS), National Oceanic and Atmospheric Administration (NOAA), Commerce.

ACTION: Notice of public workshops.

SUMMARY: NMFS announces free Atlantic Shark Identification Workshops and Protected Species Safe Handling, Release, and Identification Workshops to be held in July, August, and September of 2009. Certain fishermen and shark dealers are required to attend a workshop to meet regulatory requirements and maintain valid permits. Specifically, the Atlantic Shark Identification Workshop is mandatory for all federally permitted Atlantic shark dealers. The Protected Species Safe Handling, Release, and Identification Workshop is mandatory for vessel owners and operators who use bottom longline, pelagic longline, or gillnet gear, and have also been issued shark or swordfish limited access permits. Additional free workshops will be held in 2009 and announced in the Federal Register.

DATES: The Atlantic Shark Identification Workshops will be held July 2, August 6, and September 3, 2009.

The Protected Species Safe Handling, Release, and Identification Workshops will be held July 15, July 29, August 5, August 26, September 2, and September 30, 2009.

See SUPPLEMENTARY INFORMATION for further details.

ADDRESSES: The Atlantic Shark Identification Workshops will be held in Wilmington, NC; Richmond, TX; and Charleston, SC.

The Protected Species Safe Handling, Release, and Identification Workshops will be held in Ronkonkoma, NY; North Charleston, SC; Clearwater, FL; Kenner, LA; Peabody, MA; and Manahawkin, NJ.

See SUPPLEMENTARY INFORMATION for further details on workshop locations.

FOR FURTHER INFORMATION CONTACT: Richard A. Pearson by phone: (727) 824-5399, or by fax: (727) 824-5398.

SUPPLEMENTARY INFORMATION: The workshop schedules, registration information, and a list of frequently asked questions regarding these workshops are posted on the internet at: http://www.nmfs.noaa.gov/sfa/hms/workshops/.

Atlantic Shark Identification Workshops

Since December 31, 2007, Atlantic shark dealers have been prohibited from receiving, purchasing, trading, or bartering for Atlantic sharks unless a valid Atlantic Shark Identification Workshop certificate is on the premises of each business listed under the shark dealer permit which first receives Atlantic sharks (71 FR 58057; October 2, 2006). Dealers who attend and successfully complete a workshop are issued a certificate for each place of business that is permitted to receive sharks. These certificate(s) are valid for three years.

Currently permitted dealers may send a proxy to an Atlantic Shark Identification Workshop. However, if a dealer opts to send a proxy, the dealer must designate a proxy for each place of business covered by the dealer's permit which first receives Atlantic sharks. Only one certificate will be issued to each proxy. A proxy must be a person who: is currently employed by a place of business covered by the dealer's permit; is a primary participant in the identification, weighing, and/or first receipt of fish as they are offloaded from a vessel; and fills out dealer reports. Atlantic shark dealers are prohibited from renewing a Federal shark dealer permit unless a valid Atlantic Shark Identification Workshop certificate for each business location which first receives Atlantic sharks has been submitted with the permit renewal application. The certificate(s) are valid for three years. Additionally, trucks or other conveyances which are extensions of a dealer's place of business must possess a copy of a valid dealer or proxy Atlantic Shark Identification Workshop certificate. Approximately 35 free Atlantic Shark Identification Workshops have been conducted since January 2007.

Workshop Dates, Times, and Locations

1. July 2, 2009, from 1 p.m. - 5 p.m., New Hanover County Library - Northeast Branch, Oak Room, 1241 Military Cutoff Road, Wilmington, NC 28405.

2. August 6, 2009, from 9:30 a.m. - 2 p.m., George Memorial Library - Room 2D, 1001 Golfview Drive, Richmond, TX 77469.

3. September 3, 2009, from 9 a.m. - 2 p.m., Center for Coastal Environmental Health and Bimolecular Research, 219 Fort Johnson Road, Charleston, SC 29412.

Registration

To register for a scheduled Atlantic Shark Identification Workshop, please contact Eric Sander by email at esander@peoplepc.com or by phone at (386) 852-8588.

Registration Materials

To ensure that workshop certificates are linked to the correct permits, participants will need to bring the following items to the workshop:

Atlantic shark dealer permit holders must bring proof that the individual is an agent of the business (such as articles of incorporation), a copy of the applicable permit, and proof of identification.

Atlantic shark dealer proxies must bring documentation from the shark dealer acknowledging that the proxy is attending the workshop on behalf of the permitted Atlantic shark dealer for a specific business location, a copy of the appropriate permit, and proof of identification.

Workshop Objectives

The shark identification workshops are designed to reduce the number of unknown and improperly identified sharks reported in the dealer reporting form and increase the accuracy of species-specific dealer-reported information. Reducing the number of unknown and improperly identified sharks will improve quota monitoring and the data used in stock assessments. These workshops will train shark dealer permit holders or their proxies to properly identify Atlantic shark carcasses.

Protected Species Safe Handling, Release, and Identification Workshops

Since January 1, 2007, shark limited access and swordfish limited access permit holders who fish with longline or gillnet gear, have been required to submit a copy of their Protected Species Safe Handling, Release, and Identification Workshop certificate in order to renew either permit (71 FR 58057; October 2, 2006). These certificate(s) are valid for three years. As such, vessel owners who have not already attended a workshop and received a NMFS certificate, or vessel owners whose certificate(s) are due to expire in 2009, must attend one of the workshops offered in 2009 to fish with, or renew, their swordfish and shark limited access permits. Additionally, new shark and swordfish limited access permit applicants who intend to fish with longline or gillnet gear must attend a Protected Species Safe Handling, Release, and Identification Workshop and submit a copy of their workshop certificate before either of the permits will be issued.

In addition to certifying permit holders, all longline and gillnet vessel operators fishing on a vessel issued a limited access swordfish or limited access shark permit are required to attend a Protected Species Safe Handling, Release, and Identification Workshop and receive a certificate. The certificate(s) are valid for three years. Vessels that have been issued a limited access swordfish or limited access shark permit may not fish unless both the vessel owner and operator have valid workshop certificates onboard at all times. Approximately 65 free Protected Species Safe Handling, Release, and Identification Workshops have been conducted since 2006.

Workshop Dates, Times, and Locations

1. July 15, 2009, from 9 a.m. - 5 p.m., Holiday Inn, 3845 Veterans Memorial Highway, Ronkonkoma, NY 11779.

2. July 29, 2009, from 9 a.m. - 5 p.m., Holiday Inn, 5264 International Boulevard, North Charleston, SC 29418.

3. August 5, 2009, from 9 a.m. - 5 p.m., Holiday Inn, 3535 Ulmerton Road, State Route 688 W., Clearwater, FL 33762.

4. August 26, 2009, from 9 a.m. - 5 p.m., Hilton New Orleans Airport, 901 Airline Drive, Kenner, LA 70062.

5. September 2, 2009, from 9 a.m. - 5 p.m., Holiday Inn, 1 Newbury Street, Peabody, MA 01960.

6. September 30, 2009, from 9 a.m. - 5 p.m., Holiday Inn, 151 Route 72 East, Manahawkin, NJ 08050.

Registration

To register for a scheduled Protected Species Safe Handling, Release, and Identification Workshop, please contact Angler Conservation Education at (877) 411-4272, 1640 Mason Avenue, Daytona Beach, FL 32117.

Registration Materials

To ensure that workshop certificates are linked to the correct permits, participants will need to bring the following items with them to the workshop:

Individual vessel owners must bring a copy of the appropriate permit(s), a copy of the vessel registration or documentation, and proof of identification.

Representatives of a business owned or co-owned vessel must bring proof that the individual is an agent of the business (such as articles of incorporation), a copy of the applicable permit(s), and proof of identification.

Vessel operators must bring proof of identification.

Workshop Objectives

The protected species safe handling, release, and identification workshops are designed to teach longline and gillnet fishermen the required techniques for the safe handling and release of entangled and/or hooked protected species, such as sea turtles, marine mammals, and smalltooth sawfish. The proper identification of protected species will also be taught at these workshops in an effort to improve reporting. Additionally, individuals attending these workshops will gain a better understanding of the requirements for participating in these fisheries. The overall goal of these workshops is to provide participants with the skills needed to reduce the mortality of protected species, which may prevent additional regulations on these fisheries in the future.

Grandfathered Permit Holders

Participants in the industry-sponsored workshops on safe handling and release of sea turtles that were held in Orlando, FL (April 8, 2005) and in New Orleans, LA (June 27, 2005) were issued a NOAA workshop certificate in December 2006 that is valid for three years. These workshop certificates may be expiring in 2009. Vessel owners and operators whose certificates expire prior to permit renewal in 2009 must attend a workshop, successfully complete the course, and obtain a new certificate in order to renew their limited access shark and limited access swordfish permits. Failure to provide a valid NOAA workshop certificate could result in a permit denial.

Dated: June 2, 2009.
Alan D. Risenhoover,
Director, Office of Sustainable Fisheries, National Marine Fisheries Service.

[FR Doc. E9-13606 Filed 6-9-09; 8:45 am]

BILLING CODE 3510-22-S